DEPARTMENT OF COMMERCE

National Oceanic and Atmospheric Administration

RIN 0648-XC173

Endangered and Threatened Species; Take of Anadromous Fish

AGENCY: National Marine Fisheries Service (NMFS), National Oceanic and Atmospheric Administration (NOAA), Commerce.

ACTION: Issuance of a scientific research permit.

SUMMARY: Notice is hereby given that NMFS has issued Permit 14513 to Dr. Stephanie Carlson of University of California, Berkeley.

ADDRESSES: The approved application for the permit is available on the Applications and Permits for Protected Species (APPS), https://apps.nmfs.noaa.gov Web site by searching the permit number within the Search Database page. The application, issued permit and supporting documents are also available upon written request or by appointment: Protected Resources Division, NMFS, 777 Sonoma Avenue, Room 325, Santa Rosa, California 95404 (ph: (707) 575-6097, fax: (707) 578-3435).

FOR FURTHER INFORMATION CONTACT: Jeffrey Jahn at 707-575-6097, or email: Jeffrey.Jahn@noaa.gov.

SUPPLEMENTARY INFORMATION:

Authority

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhyncus kisutch), threatened Southern Oregon/Northern California Coast coho salmon (O. kisutch), threatened Central California Coast steelhead (O. mykiss), threatened Northern California steelhead (O. mykiss), and threatened California Coastal Chinook Salmon (O. tshawytscha).

Permit 14513

A notice of the receipt of an application for a scientific research permit (14513) was published in the Federal Register on December 8, 2010 (75 FR 76400-76401). After publication of the notice of receipt, Dr. Carlson expanded her research program to include study sites in the Eel River watershed. Since the Eel River watershed and associated take of salmon and steelhead were not included in the previous application that already went through the public comment period, NMFS published another notice of receipt in the Federal Register on June 7, 2012 (77 FR 33717-33718).

Permit 14513 is for research to be conducted in the Lagunitas Creek watershed in Marin County, the Pescadero Creek watershed in San Mateo County, and the Eel River watershed in Humboldt and Mendocino counties, California. The main purpose of the research is to conduct research on, and monitor salmon populations in these watersheds. Permit 14513 authorizes capturing (backpack electrofisher, traps, seine, dip net, hook and line), observing (snorkel surveys), anesthetizing, handling (identify, measure, weigh), marking (Passive Integrated Transponder tags, fin clips), sample (scales, gastric lavage, otolith), and release of Central California Coast (CCC) coho salmon, Southern Oregon/Northern California Coast (SONCC) coho salmon, Central California Coast (CCC) steelhead, Northern California (NC)steelhead, and California Coastal (CC) Chinook Salmon, henceforth referred to as ESA-listed salmonids.

Permit 14513 authorizes non-lethal take and low levels of unintentional lethal take of ESA-listed salmonids, as well as adult carcasses of these species. Permit 14513 does not authorize any lethal take of ESA-listed salmonids except for a limited number of moribund CCC steelhead that may occur in Pescadero Creek.

Dated: August 22, 2012.
Dwayne Meadows,
Acting Chief, Endangered Species Division, Office of Protected Resources, National Marine Fisheries Service.

[FR Doc. 2012-21091 Filed 8-24-12; 8:45 am]

BILLING CODE 3510-22-P